DEPARTMENT OF LABOR

Employment and Training Administration

[TA-W-71,523]

SA Industries 2, Inc., Formerly Known as Gates Corporation, Fluid Power Division, Including On-Site Leased Workers From Corporate Services, Inc., and the Workplace, Inc., Rockford, IL; Amended Certification Regarding Eligibility To Apply for Worker Adjustment Assistance

In accordance with Section 223 of the Trade Act of 1974, as amended (“Act”), 19 U.S.C. 2273, the Department of Labor issued a Certification of Eligibility to Apply for Worker Adjustment Assistance on July 31, 2009, applicable to workers of Gates Corporation, Fluid Power Division, a subdivision of Tomkins PLC, including on-site leased workers from Corporate Services, Inc. and The Workplace, Inc., Rockford, Illinois. The notice was published in the Federal Register on September 22, 2009 (74 FR 48304).

At the request of the State Agency, the Department reviewed the certification for workers of the subject firm. The workers are engaged in the production of hydraulic hose coupling components.

New information shows that in early October 2010, SA Industries 2, Inc. purchased the business of the Rockford, Illinois location of the Gates Corporation, Fluid Power Division, a subsidiary of Tomkins PLC and is now known only as SA Industries 2, Inc. Since the October purchase, the Rockford, Illinois location is no longer referred to as the Fluid Power Division or is a subsidiary of Tomkins PLC. The on-site leased workers from Corporate Services, Inc., and The Workplace, Inc. are no longer employed at the Rockford, Illinois location of SA Industries 2, Inc., formerly known as Gates Corporation, Fluid Power Division, a subsidiary of Tomkins PLC.

Accordingly, the Department is amending this certification to properly reflect these matters.

The intent of the Department's certification is to include all workers of the subject firm who were adversely affected by a shift in the production of hydraulic hose coupling components to Mexico.

The amended notice applicable to TA-W-71,523 is hereby issued as follows:

All workers of SA Industries 2, Inc., formerly known as Gates Corporation, Fluid Power Division, a subsidiary of Tomkins PLC, Rockford Illinois, who became totally or partially separated from employment on or after July 1, 2008, through July 31, 2011, and all workers in the group threatened with total or partial separation from employment on date of certification through two years from the date of certification, are eligible to apply for adjustment assistance under Chapter 2 of Title II of the Trade Act of 1974, as amended.

Signed in Washington, DC, this 28th day of October 2010.
Elliott S. Kushner,
Certifying Officer, Division of Trade Adjustment Assistance.

[FR Doc. 2010-27758 Filed 11-2-10; 8:45 am]

BILLING CODE 4510-FN-P